DEPARTMENT OF COMMERCE

National Oceanic and Atmospheric Administration

[I.D. 033104C]

Availability of the Draft Guidelines for the Climate Change Science Program Synthesis and Assessment Products

AGENCY: National Oceanic and Atmospheric Administration (NOAA), Commerce.

ACTION: Notice of availability and request for public comment.

SUMMARY: The United States Climate Change Science Program (CCSP) is announcing the availability of the Draft Guidelines for the CCSP Synthesis and Assessment Products, which are described in the Strategic Plan for the U.S. Climate Change Science Program (http://www.climatescience.gov/Library/stratplan2003/final/default.htm). The synthesis and assessment products are intended to provide useful information for a variety of users about key climate change topics. The products include reports, data sets, and evaluations of the uses and limits of climate information for decisionmaking. See Chapter 2 of the Strategic Plan for the U.S. Climate Change Science Program for a detailed description of the products.

Your comments are requested on the effectiveness of the proposed guidelines for (1) ensuring scientific integrity and (2)facilitating public involvement in the products. All comments should be sent electronically to comments@climatescience.gov. Please refer to the instructions for formatting and submitting comments (http://www.climatescience.gov/Library/sap/sap-reviewinstructions.htm) to facilitate the collation of comments received into a master set for review by the CCSP.

DATES: Comments must be received by May 7, 2004. The comments received by this date will be posted on the CCSP web site.

ADDRESSES: The Draft Guidelines for the CCSP Synthesis and Assessment Products are available on the CCSP web site at http://www.climatescience.gov/Library/sap/sap-guidelines-29mar2004.pdf.

FOR FURTHER INFORMATION CONTACT: Ms. Sandy MacCracken, 1-202-419-3483 (voice), U.S. Climate Change Science Program, Suite 250, 1717 Pennsylvania Ave., N.W., Washington, DC 20006.

SUPPLEMENTARY INFORMATION:

CCSP Products and Guidelines

The Climate Change Science Program is an interagency endeavor, with 13 participating Federal agencies and departments. One or more of the agencies that comprise CCSP will have the lead responsibility for preparing each product. The topic of the product, lead and supporting agencies, and time frame for producing the product are listed in a table available at http://www.climatescience.gov/Library/sap/sap-summary.htm. This table also provides information regarding which CCSP interagency working groups are collaborating in the production of each product. The national and international research community is anticipated to play a major role in preparation of many of the products.

To ensure consistency and transparency in the processes that will be used by the lead and supporting CCSP agencies in preparing the products, the guidelines currently under review describe the steps to be followed in each of four phases of the preparation process—framing, drafting, review, and production. This product development will facilitate involvement of the research community and the public in ensuring that the products meet the highest standards of scientific excellence. The guidelines also encourage transparency by ensuring that public information about the status of the products will be provided on the CCSP web site (http://www.climatescience.gov).

Dated: April 1, 2004.
James R. Mahoney,
Assistant Secretary of Commerce for Oceans and Atmosphere and Director, U.S. Climate Change Science Program.

[FR Doc. 04-7902 Filed 4-6-04; 8:45 am]

BILLING CODE 3510-12-S